SECURITIES AND EXCHANGE COMMISSION

Sunshine Act Meetings

TIME AND DATE: Notice is hereby given, pursuant to the provisions of the Government in the Sunshine Act, Public Law 94-409, that the Commission will host the SEC State of Our Securities Markets Conference on Wednesday, December 4, 2019 beginning at 9:30 a.m. (ET).

PLACE: The event will be held at the SEC Headquarters, 100 F Street NE, Washington, DC 20549. The event's panel discussions will be webcast on the Commission's website at www.sec.gov.

STATUS: This meeting will be open to the public.

MATTERS TO BE CONSIDERED: This Sunshine Act notice is being issued because a majority of the Commission may attend the conference. The SEC Chairman will participate in a fireside chat during the event. Additionally, other SEC Commissioners may be in attendance. The event will include discussions concerning the ever-changing economic, risk and market environment and what those changes mean for the structure and function of the securities markets. Areas of focus will include global macroeconomic trends—and their impacts on capital markets; changes to the global equity and credit markets—including how today's markets differ from those of the early 2000s; and market concentration and fragmentation within certain areas of the securities markets, including relevant causes and potential risks and effects.

CONTACT PERSON FOR MORE INFORMATION: For further information, please contact Vanessa A. Countryman from the Office of the Secretary at (202) 551-5400.

Dated: November 27, 2019.
Vanessa A. Countryman,
Secretary.

[FR Doc. 2019-26168 Filed 11-27-19; 4:15 pm]

BILLING CODE 8011-01-P